DEPARTMENT OF VETERANS AFFAIRS

Scientific Review and Evaluation Board for Health Services Research and Development Service, Notice of Meeting

The Department of Veterans Affairs, Veterans Health Administration, gives notice under Pub. L. 92-463, that a meeting of the Scientific Review and Evaluation Board for Health Services Research and Development Service, will be held at the Emily Morgan Hotel, 705 East Houston Street, San Antonio, Texas 78205, January 22-25, 2002. The meeting will convene from 7 p.m. until 9 p.m. on January 22, 2002, from 8 a.m. until 5 p.m. on January 23 and 24, 2002, and from 8 a.m. until 1 p.m. on January 25, 2002. The purpose of the meeting is to review research and development applications concerned with the measurement and evaluation of health care services and with testing new methods of health care delivery and management, and nursing research. Applications are reviewed for scientific and technical merit. Recommendations regarding funding are prepared for the Chief Research and Development Officer.

This meeting will be open to the public at the start of the January 22 session for approximately one half-hour to cover administrative matters and to discuss the general status of the program. The closed portion of the meeting involves discussion, examination, reference to, and oral review of staff and consultant critiques of research protocols and similar documents. During this portion of the meeting, discussion and recommendations will include qualifications of the personnel conducting the studies (the disclosure of which would constitute a clearly unwarranted invasion of personal privacy), as well as research information (the premature disclosure of which would be likely to frustrate significantly the implementation of proposed agency action regarding such research projects). As provided by the subsection 10(d) of Pub. L. 92-463, as amended by Pub. L. 94-409, closing portions of these meetings is in accordance with 5 U.S.C. 552b(c)(6) and (9)(B).

Those who plan to attend the open session should contact Mr. John G. Demakis, Director, Health Services Research and Development Service (124F), Department of Veterans Affairs, 1400 I Street, NW., Suite 780, Washington, DC, at least five days before the meeting. For further information, call (202) 408-3665.

Dated: November 20, 2001.
By Direction of the Secretary.
Nora E. Egan,
Committee Management Officer.

[FR Doc. 01-29737 Filed 11-29-01; 8:45 am]

BILLING CODE 8320-01-M